DEPARTMENT OF TRANSPORTATION

Federal Aviation Administration

Sixty-Second Meeting: RTCA Special Committee 135, Environmental Conditions and Test Procedures for Airborne Equipment

AGENCY: Federal Aviation Administration (FAA), U.S. Department of Transportation (DOT).

ACTION: Meeting Notice of RTCA Special Committee 135, Environmental Conditions and Test Procedures for Airborne Equipment.

SUMMARY: The FAA is issuing this notice to advise the public of the Sixty-Second meeting of the RTCA Special Committee 135, Environmental Conditions and Test Procedures for Airborne Equipment.

DATES: The meeting will be held November 13-15 from 9:00 a.m. to 5:00 p.m.

ADDRESSES: The meeting will be held at EUROCAE Headquarters, 102 Rue Etienne Dolet, 92230 Malakoff, France.

FOR FURTHER INFORMATION CONTACT: The RTCA Secretariat, 1150 18th Street NW., Suite 910, Washington, DC 20036, or by telephone at (202) 330-0652/(202) 833-9339, fax at (202) 833-9434, or Web site at http://www.rtca.org or Sophie Bousquet, sbousquet@rtca.org, 202-330-0663.

SUPPLEMENTARY INFORMATION: Pursuant to section 10(a)(2) of the Federal Advisory Committee Act (Pub. L. 92-463, 5 U.S.C., App.), notice is hereby given for a meeting of Special Committee 135. The agenda will include the following:

November 13-15, 2013

• Introductions and Administrative Remarks

• Approval of the Agenda

• Approval of the Minutes of Plenary #61

• Review User Guide Drafts

• Section 4

• Section 5

• Section 7

• Section 8

• Section 9

• Section 10

• Section 11

• Section 15

• Section 16

• Section 20

• Section 21

• Section 22

• Section 23

• Section 26

• Review Open Proposals

• Review User Guide Schedule

• Other Business

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on July 12, 2013.
Paige Williams,
Management Analyst, NextGen, Business Operations Group, Federal Aviation Administration.

[FR Doc. 2013-17565 Filed 7-19-13; 8:45 am]

BILLING CODE 4910-13-P